DEPARTMENT OF JUSTICE

Notice of Lodging of Consent Decree Under the Clean Water Act

Under 28 CFR 50.7, notice is hereby given that on August 3, 2004, a proposed consent decree in United States v. Mobile Exploration and Producing U.S. Inc., Case No. 2:98-DV-00220-ST, was lodged with the United States District Court for the District of Utah.

In this action, the United States sought injunctive relief and civil penalties under Sections 309 and 311 of the Clean Water Act (“CWA”) against Mobil at its McElmo Creek Unit and Ratherford Unit near Aneth, Utah, for unpermitted discharges of produced water and oil into waters of the United States, failure to prepare and implement an adequate Spill Prevention, Control, and Countermeasure Plan, failure to provide notification of an oil spill, and failure to prepare and implement a Facility Response Plan. The consent decree requires Mobil to: (1) Install new equipment and implement measures to prevent spills and minimize the volume of future spills, (2) implement a supplemental environmental project to extend a water line to provide drinking water to local residents, and (3) pay a civil penalty of $515,000.

The Department of Justice will receive for a period of thirty (30) days from the date of this publication comments relating to the consent decree. Comments should be addressed to the Assistant Attorney General, Environment and Natural Resources Division, P.O. Box 7611, U.S. Department of Justice, Washington, DC 20044-7611 with a copy to Robert Mullaney, U.S. Department of Justice, 301 Howard Street, Suite 1050, San Francisco, CA 94105, and should refer to United States v. Mobil Exploration and Producing U.S. Inc., D.J. Ref, #90-5-1-1-4457.

The consent decree may be examined at the Office of the United States Attorney, 185 South State Street, Suite 400, Salt Lake City, Utah, and at U.S. EPA Region 9, Office of Regional Counsel, 75 Hawthorne Street, San Francisco, California. During the public comment period, the consent decree may also be examined on the following Department of Justice Web site: http://www.usdoj.gov/enrd/open.html. A copy of the consent decree may also be obtained by mail from the Consent Decree Library, P.O. Box 7611, U.S. Department of Justice, Washington, DC 20044-7611 or by faxing or e-mailing a request to Tonia Fleetwood (tonia.fleetwood@usdoj.gov), fax No. (202) 514-0097, phone confirmation number (202) 514-1547. In requesting a copy from the Consent Decree Library, please enclose a check in the amount of $23.00 (25 cents per page reproduction cost) payable to the U.S. Treasury.

Ellen M. Mahan,
Assistant Chief, Environmental Enforcement Section, Environment and Natural Resources Division.

[FR Doc. 04-18947 Filed 8-17-04; 8:45 am]

BILLING CODE 4410-15-M